FEDERAL COMMUNICATIONS COMMISSION

[CS Docket No. 99-251]

In the Matter of Applications for Consent to the Transfer of Control of Licenses; MediaOne Group, Inc., Transferor, to AT&T Corporation, Transferee

AGENCY: Federal Communications Commission, Cable Services Bureau.

ACTION: Notice of Public Forum by Cable Services Bureau.

SUMMARY: The Cable Services Bureau of the Federal Communications Commission will convene a Public Forum on the proposal of AT&T Corporation (“AT&T”) and MediaOne Group, Inc. (“MediaOne”) to transfer to AT&T the control of licenses and authorizations held by subsidiaries of MediaOne and entities controlled by MediaOne. The purpose of the Public Forum is to assist the Cable Services Bureau in its review of the AT&T-MediaOne proposal, to provide an opportunity for further discussion of issues raised in the proceeding, and to gather additional information that may be relevant. The Bureau has requested that AT&T and MediaOne and several interested parties and organizations make presentations at the Public Forum.

DATES: The Public Forum will be held on Friday, February 4, 2000 beginning at 9:30 a.m. and continuing until approximately 3:00 p.m.

ADDRESSES: The Public Forum will be held in the Federal Communications Commission's Meeting Room, 445 12th Street, SW, Washington, D.C.

FOR FURTHER INFORMATION CONTACT: Sunil Daluvoy, Cable Services Bureau, (202) 418-7200.

Federal Communications Commission.

Dated: January 27, 2000.
Magalie Roman Salas,
Secretary.

[FR Doc. 00-2137 Filed 1-31-00; 8:45 am]

BILLING CODE 6712-01-P